DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: American Community Survey Methods Panel Tests.

OMB Control Number: 0607-0936

Form Number(s): ACS-1, ACS-1(SP), ACS-1PR, ACS-1PR(SP), ACS CATI(HU), ACS CAPI(HU), ACS (Internet).

Type of Request: Revision of a currently approved collection.

Burden Hours: 276,645.

Number of Respondents: 444,150.

Average Hours per Response: 34 minutes.

Needs and Uses: The U.S. Census Bureau requests authorization from the Office of Management and Budget (OMB) to conduct the American Community Survey (ACS) Methods Panel tests. The ACS collects detailed socioeconomic data from about 3.5 million households in the United States and 36,000 in Puerto Rico each year. Resulting tabulations from that data collection are provided on a yearly basis. The ACS allows the Census Bureau to provide timely and relevant housing and socio-economic statistics for even small levels of geography.

An ongoing data collection effort with an annual sample of this magnitude requires continuous research, testing and evaluations aimed at improving questionnaire content and data collection operations. The ACS Methods Panel is a research program that is designed to address and respond to emerging issues and survey needs. During the 2013-2015 period, the Methods Panel may include testing methods for increasing survey efficiencies, reducing survey cost, lessening respondent burden, and improving response rates. Testing may also include methods that might increase data quality. At this time, plans are in place to propose several tests: a 2013 Questionnaire Design Test, a 2015 ACS Content Test, and a series of Internet tests. Because we cannot anticipate issues that may arise in the production survey or from the proposed studies, we may conduct additional testing as needed. Additional testing would focus on methods for reducing data collection costs, improving data quality or testing new questions that have an urgent need to be included on the ACS.

In September through December 2010, the Census Bureau conducted the 2010 ACS Content Test that included testing revisions to current ACS questions as well as two new questions (Computer ownership and Internet usage, and Parental Place of Birth). During the Content Test, the Census Bureau determined that the ACS paper questionnaire did not contain enough space to accommodate certain configurations of proposed content changes. While selected content from the test does fit on the current form, we need to be proactive to accommodate future content requests on the ACS mail questionnaire. In the 2013 ACS Questionnaire Design Test, we will study the impact of a longer (36-page) questionnaire against our current 28-page form. The experimental treatments are noted below, but we have not finalized the forms for this test at the time. We will also study whether changing the size of the form to a standard size (8.5 x 11) booklet has an impact on response, compared to both the 28- and 36-page forms. The results of this testing will help the Census Bureau to decide which questionnaire format change has the least negative impact on response and data quality.

Because the 8.5 × 11 questionnaire will be roughly 44-pages long, we cannot fold the form before mailing it as we do with the current 36-page questionnaire. Thus, this test will also include an experimental panel where a 36-page questionnaire is mailed flat (without folding) so that we can cleanly determine the effect of questionnaire size versus folding.

This test will also include several changes to make the questionnaire more compatible with optical character recognition software, including altering the response box formats for numeric write-in fields to allow them to be captured automatically rather than keyed. This part of the test will allow us to examine any changes to response behavior as well as to estimate anticipated cost savings from the automatic capture. Lastly, this test will include a test of variations in the relationship question and the marital status series per the OMB initiative to ensure these questions are inclusive of all relationship types and partnerships. Based on the results of this testing, a secondary, follow-up test may be needed to refine the questionnaire identified as the best alternative from this test.

Second, in response to Federal agencies' requests for new and revised ACS questions, the Census Bureau plans to conduct the 2015 ACS Content Test. We will determine the changes to the current ACS content and the addition of new content through the OMB Interagency Committee for the ACS in 2013. OMB must approve requests for content changes prior to testing. The objective of the 2015 ACS Content Test, for both new and existing questions, is to determine the impact of changing question wording, response categories, and redefinition of underlying constructs on the quality of the data collected. The Census Bureau proposes to evaluate changes to the questions by comparing the revised questions to the current ACS questions, or for new questions, to compare the performance of question versions to each other as well as to other well-known sources of such information. We plan to design the test similar to past content tests, using two experimental panels to compare current versus revised content. We will also use a reinterview to help generate measures of response error.

Third, we want to implement several iterative ACS Internet tests based on issues that arose from two ACS Internet tests conducted in 2011. Both of these tests studied the impact of different notifications of an Internet option in the survey invitations. Production ACS will begin collecting data using the Internet in January 2013. One problem detected in the 2011 tests was the impact to item nonresponse for questions in the later parts of the survey due to Internet break-offs. The Internet tests in 2013-2015 will look at potential ways to restructure messaging and change the Internet design to help reduce break-offs and encourage response in a timely manner. Testing will also include a reexamination of the potential for using the Internet to collect data in Puerto Rico, since results from the 2011 test did not show any distinct advantage. Testing plans are largely undefined at this point, but we will submit more detailed information once plans are solidified.

Other considerations for testing include a second Content Reinterview Survey to build upon the results from the first Content Reinterview Survey that is currently in the field due to the introduction of the web mode and content changes. We are also considering testing designed to improve data collection operations in Group Quarters, such as the introduction of a web option and developing a separate questionnaire for institutionalized populations. There are no specific test plans for these projects at this point.

Other testing is being considered, but the specific details of these tests are not known at this time. However, these tests cover similar testing topics of content and methods to address emergent issues or needs. The tests may be conducted on both residential households or group quarters.

The Census Bureau is still in the early stages for planning and implementing the proposed tests. Subsequently the materials to be used in the tests have not been developed. For changes to the tests described in this justification, the Census Bureau will submit a non-substantive change request documenting the change.

The ACS must collect data on a continual basis and aggregate one, three, or five years worth of data to release data for all states, Congressional districts, counties, cities, and small towns down to the census tract and block group level. Essentially the ACS collects data every day of the year, either by mail, Internet (beginning in January 2013), telephone interviews or personal-visit interviews. There are many federal programs that distribute funds based on population and income data from the Census Bureau, including data from the ACS. Federal agencies use ACS data to determine appropriate funding for state and local governments through block grants. State and local governments use ACS data for program planning, administration and evaluation. Thus, the reliability and the quality of the data must remain high in order for the users to rely on the data for funding decisions.

So that the Census Bureau can provide critical information to governments and the private sector, the ACS collects comprehensive demographic, social, economic, and housing statistics covering every community in the nation. The ACS provides a continuous stream of updated information for states and local areas on an annual basis, and has revolutionized the ways the country uses data to understand communities and plan for the future.

ACS Methods Panel testing, such as the Questionnaire Design Test, Internet Tests, and the 2015 Content Test, provide a mechanism to investigate ways to reduce or at least maintain data collection costs and improve the quality of the data.

Affected Public: Individuals or households.

Frequency: One time.

Respondent's Obligation: Mandatory.

Legal Authority: Title 13, United States Code, Sections 141, 193, and 221.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: August 28, 2012.
Glenna Mickelson,
Management Analyst, Office of the Chief Information Officer.

[FR Doc. 2012-21588 Filed 8-30-12; 8:45 am]

BILLING CODE 3510-07-P